ENVIRONMENTAL PROTECTION AGENCY

[ER-FRL-9022-4]

Environmental Impact Statements; Notice of Availability

AGENCY: Office of Federal Activities, General Information (202) 564-7146 or http://www2.epa.gov/nepa.

Weekly receipt of Environmental Impact Statements.

Filed 08/03/2015 Through 08/07/2015.

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150215, Revised Draft, USFS, SC, Francis Marion Forest Plan Revision, Comment Period Ends: 11/11/2015, Contact: Mary Morrison 803-561-4058.

EIS No. 20150216, Final, USFS, UT, Monroe Mountain Aspen Ecosystems Restoration Project, Review Period Ends: 10/05/2015, Contact: Jason Kling 435-896-1080.

EIS No. 20150217, Draft, RUS, PR, Arecibo Waste-to-Energy and Resource Recovery Project, Comment Period Ends: 09/28/2015, Contact: Lauren McGee Rayburn 202-695-2540.

EIS No. 20150218, Draft, FERC, OR, Oregon Liquefied Natural Gas (LNG) and Washington Expansion Projects, Comment Period Ends: 10/06/2015, Contact: Medha Kochhar 202-502-8964.

EIS No. 20150219, Final, NRC, NH, NUREG-1437, Generic—License Renewal of Nuclear Plants Supplement 46 Regarding Seabrook Station, Review Period Ends: 09/14/2015, Contact: Lois M. James 301-415-3306.

EIS No. 20150220, Final, FHWA, ID, US-95 Thorncreek Road to Moscow, Review Period Ends: 09/14/2015, Contact: Kyle P. Holman 208-334-9180 ext.127.

EIS No. 20150221, Draft, BLM, NV, Bald Mountain Mine North and South Operations Area Projects, Comment Period Ends: 09/28/2015, Contact: Miles Kreidler 509-536-1222.

EIS No. 20150222, Final, BR, CA, Shasta Lake Water Resources Investigation, Review Period Ends: 09/14/2015, Contact: Katrina Chow 916-978-5067.

EIS No. 20150223, Final, USFS, OR, Goose Project, Review Period Ends: 10/01/2015, Contact: Elysia Retzlaff 541-822-7214.

EIS No. 20150224, Final, USFS, CO, Breckenridge Multi-Season Recreation Projects, Review Period Ends: 09/28/2015, Contact: Roger Poirier 970-945-3245.

Amended Notices

EIS No. 20150109, Draft, STB, MT, Tongue River Railroad, Comment Period Ends: 09/23/2015, Contact: Ken Blodgett 1-866-622-4355: Revision to FR Notice Published 07/10/2015; Extending Comment Period from 08/24/2015 to 09/23/2015.

Dated: August 11, 2015.
Karin Leff,
Acting Director, NEPA Compliance Division, Office of Federal Activities.

[FR Doc. 2015-20084 Filed 8-13-15; 8:45 am]

BILLING CODE 6560-50-P